DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Government in the Sunshine Act of 1976 (5 U.S.C. 552b, as amended), and 41 CFR 102-3.150, and in accordance with section 10(a)(2) of Public Law, a meeting of the Defense Health Board (DHB) is announced.

DATES:

June 25, 2012

8:00 a.m.-8:45 a.m. (Administrative Working Meeting).

8:45 a.m.-12:00 p.m. (Closed Session).

12:00 p.m.-1:00 p.m. (Administrative Working Meeting).

1:00 p.m.-5:15 p.m. (Open Session).

June 26, 2012

8:00 a.m.-2:00 p.m. (Administrative Working Meeting).

ADDRESSES: The June 25 and 26 meeting will be held at 1425 Porter Street, Fort Detrick, Frederick, MD 21702-5011, in the Headquarters Conference Room for the closed session and the Dalrymple Conference Room for the open session.

FOR FURTHER INFORMATION CONTACT: Ms. Christine Bader, Director, Defense Health Board, 7700 Arlington Blvd., Suite 5101, Falls Church, Virginia 22042, (703) 681-6653, Fax: (703) 681-9539, Christine.bader@tma.osd.mil.

SUPPLEMENTARY INFORMATION: Additional information, including the agenda and electronic registration are available at the DHB Web site, http://www.health.mil/dhb/default.cfm. Anyone intending to attend is encouraged to register to ensure that adequate seating is available.

Purpose of the Meeting

The purpose of the meeting is to address and deliberate pending and new Board issues before the Board.

Agenda

Pursuant to 5 U.S.C. 552b, as amended, and 41 CFR 102-3.155, in the interest of national security, the DoD has determined that the meeting on the morning of June 25, 2012 will be closed to the public. The Under Secretary of Defense (Personnel and Readiness), in consultation with the Office of the DoD General Counsel, has determined in writing that the public interest requires that the morning session on June 25, 2012 be closed to the public because it will concern matters listed in section 552b(c)(1) of title 5, United States Code. Specifically, the information presented meets criteria established by an Executive Order to be kept secret in the interest of national defense and foreign policy.

On the afternoon of June 25, 2012, the DHB will receive briefings on military health needs and priorities. The Board will vote on three potential recommended changes to the Tactical Combat Casualty Care Guidelines and one proposed recommendation on Research, Development, Test and Evaluation Priorities for Battlefield Trauma Care from the Trauma and Injury Subcommittee. Additionally, the Board will receive information briefs from the National Trauma Institute and U.S. Army Institute of Surgical Research.

Pursuant to 5 U.S.C. 552b, as amended, and 41 CFR 102-3.140 through 102-3.165 and subject availability of space, the DHB meeting is open to the public from 1:00 p.m. to 5:15 p.m. on June 25, 2012.

Written Statements

Any member of the public wishing to provide comments to the DHB may do so in accordance with 41 CFR 102-3.140(c) and section 10(a)(3) of the Federal Advisory Committee Act, and the procedures described in this notice.

Individuals desiring to provide comments to the DHB may do so by submitting a written statement to the DHB Designated Federal Officer (DFO) (see FOR FURTHER INFORMATION CONTACT). Written statement should address the following details: the issue, discussion, and a recommended course of action. Supporting documentation may also be included, as needed, to establish the appropriate historical context and to provide any necessary background information.

If the written statement is not received at least 10 calendar days prior to the meeting, the DFO may choose to postpone consideration of the statement until the next open meeting.

The DFO will review all timely submissions with the DHB President and ensure they are provided to members of the DHB before the meeting that is subject to this notice. After reviewing the written comments, the DHB President, and the DFO may choose to invite the submitter to orally present their issue during an open portion of this meeting or at a future meeting. The DFO, in consultation with the DHB President, may allot time for members of the public to present their issues for review and discussion by the DHB.

Special Accommodations

If special accommodations are required to attend (sign language, wheelchair accessibility) please contact Ms. Lisa Jarrett at (703) 681-6670 by Friday, June 15, 2012.

Dated: May 31, 2012.
Aaron Siegel,
Alternate OSD Federal Register Liaison Officer, Department of Defense.

[FR Doc. 2012-13520 Filed 6-4-12; 8:45 am]

BILLING CODE 5001-06-P